ENVIRONMENTAL PROTECTION AGENCY

[FRL-8181-4]

Air Quality Management Subcommittee to the Clean Air Act Advisory Committee (CAAAC); Notice of Meeting

AGENCY: Environmental Protection Agency.

ACTION: Notice.

SUMMARY: The Environmental Protection Agency (EPA) established the CAAAC on November 19, 1990, to provide independent advice and counsel to EPA on policy issues associated with implementation of the Clean Air Act of 1990. The Committee advises on economic, environmental, technical, scientific, and enforcement policy issues.

Open Meeting Notice: Open Meeting Notice: Pursuant to 5 U.S.C. App.2 10(a)(2), notice is hereby given that the Air Quality Management subcommittee to the Clean Air Act Advisory Committee will hold its next open meeting on Tuesday, June 27 and Wednesday, June 28, 2006 from approximately 9 a.m. to 5 p.m. at the Ritz-Carlton Atlanta Hotel, 181 Peachtree Street, Atlanta, Georgia. Any member of the public who wishes to submit written or brief oral comments; or who wants further information concerning this meeting should follow the procedures outlined in the section below titled “Providing Oral or Written Comments at this Meeting”. Seating will be limited and available on a first come, first served basis. In order to insure copies of printed materials are available, members of the public wishing to attend this meeting are encouraged to contact Mr. Jeffrey Whitlow, Office of Air and Radiation, U.S. EPA (919) 541-5523, Fax (919) 685-3307 or by mail at U.S. EPA, Office of Quality Planning and Standards (Mail code C 301-04), 109 T.W. Alexander Drive, Research Triangle Park, NC 27711 or by e-mail at: whitlow.jeff@epa.gov by noon eastern time on June 20 , 2006. For information on access or services for individuals with disabilities or to request accommodation of a disability, please contact Mr. Whitlow, preferably at least 10 days prior to the meeting, to give EPA as much time as possible to process your request.

Inspection of Committee Documents: The subcommittee agenda and any documents prepared for the meeting will be sent to participants via e-mail prior to the start of the meeting. Thereafter, these documents, together with the meeting minutes, will be available by contacting the Office of Air and Radiation Docket and requesting information under docket OAR-2004-0075 and can be found on the CAAAC Web site: http://www.epa.gov/air/caaac. The Docket office can be reached by telephoning (202) 260-7548; FAX (202) 260-4400.

FOR FURTHER INFORMATION CONTACT: Concerning the Air Quality Management subcommittee to the CAAAC , please contact Mr. Jeffrey Whitlow, Office of Air and Radiation, U.S. EPA (919) 541-5523, FAX (919) 685-3307 or by mail at U.S. EPA, Office of Air Quality Planning and Standards (Mail Code C 301-04), 109 T.W. Alexander Drive, Research Triangle Park, NC 27711, or e-mail at: whitlow.jeff@epa.gov. Additional Information about the CAAAC and its subcommittees can be found on the CAAAC Web site: http://www.epa.gov/air/caaac.

Providing Oral or Written Comments At This Meeting: It is the policy of the subcommittee to accept written public comments of any length and to accommodate oral public comments whenever possible. The subcommittee expects that public statements presented at this meeting will not be repetitive of previously-submitted oral or written statements. Oral Comments: In general, each individual or group requesting an oral presentation at this meeting is limited to a total time of five minutes (unless otherwise indicated). However, no more than 30 minutes total will be allotted for oral public comments at this meeting; therefore, the time allowed for each speaker's comments will be adjusted accordingly. In addition, for scheduling purposes, requests to provide oral comments must be in writing (e-mail, fax or mail) and received by Mr. Whitlow no later than noon eastern time five business days prior to the meeting in order to reserve time on the meeting agenda. Written Comments: Although the subcommittee accepts written comments until the date of the meeting (unless otherwise stated), written comments should be received by Mr. Whitlow no later than noon eastern time five business days prior to the meeting so that the comments may be made available to the subcommittee members for their consideration. Comments should be supplied to Mr. Whitlow (preferably via e-mail) at the address/contact information noted above, as follows: one hard copy with original signature or one electronic copy via e-mail (acceptable file format: Adobe Acrobat PDF, WordPerfect, MS Word, MS PowerPoint, or Rich Text files).

Dated: May 31, 12006.
Gregory A. Green,
Director, Outreach and Information Division, Office of Air Quality Planning and Standards.

[FR Doc. E6-8938 Filed 6-7-06; 8:45 am]

BILLING CODE 6560-50-P